COMMITTEE FOR PURCHASE FROM PEOPLE WHO ARE BLIND OR SEVERELY DISABLED

Procurement List; Proposed Additions and Deletion

AGENCY: Committee for Purchase from People Who Are Blind or Severely Disabled.

ACTION: Proposed additions to and deletion from Procurement List.

SUMMARY: The Committee is proposing to add to the Procurement List products and services to be furnished by nonprofit agencies employing persons who are blind or have other severe disabilities, and to delete products previously furnished by such agencies.

DATES: Comments Must Be Received On Or Before: February 11, 2007.

ADDRESSES: Committee for Purchase From People Who Are Blind or Severely Disabled, Jefferson Plaza 2, Suite 10800, 1421 Jefferson Davis Highway, Arlington, VA 22202-3259.

For Further Information Or To Submit Comments Contact: Sheryl D. Kennerly, Telephone: (703) 603-7740, Fax: (703) 603-0655, or e-mail CMTEFedReg@jwod.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Hydramax Hydration System

NSN: 8465-00-NIB-0080—Replacement Reservoir, Alpha and Mustang

NSN: 8465-00-NIB-0139—Mustang, Black

NSN: 8465-00-NIB-0151—Mustang, Universal Camouflage

NSN: 8465-00-NIB-0152—Mustang, Desert Camouflage

NSN: 8465-00-NIB-0154—Alpha, High Visibility Orange

NSN: 8465-00-NIB-0155—Alpha, Universal Camouflage

Coverage: B-list—for the broad Government requirement as specified by the General Services Administration

NPA: The Lighthouse for the Blind, Inc. (Seattle Lighthouse), Seattle, WA

Contracting Activity: GSA, Southwest Supply Center, Fort Worth, TX

Spices, Dry, Group II

NSN: 8950-01-E60-9152—Ground Ginger

NSN: 8950-01-E60-9155—Cayenne Pepper

NSN: 8950-01-E61-0099—Taco Mix Seasoning

NSN: 8950-01-E61-0100—Taco Mix Seasoning (Group II)

NSN: 8950-01-E61-0101—Taco Mix Seasoning (Group II)

NSN: 8950-01-E61-0102—Taco Mix Seasoning (Group II)

NSN: 8950-01-E61-0103—Cayenne Pepper

NSN: 8950-01-E61-0104—Ginger Ground

NSN: 8950-01-E61-0105—Ginger Ground

NSN: 8950-01-E61-0106—Cayenne Pepper

NSN: 8950-01-E61-0107—Cayenne Pepper

NSN: 8950-01-E61-0108—Red Pepper

Coverage: C-List for the requirements of Defense Supply Center Philadelphia (DSCP).

NPA: Continuing Developmental Services, Inc., Fairport, NY

Contracting Activity: Defense Supply Center Philadelphia, Philadelphia, PA

Services

Service Type/Location: Administrative Services,

Calexico Border Station, 11150 Birch Street, Calexico, CA.

NPA: ARC-Imperial Valley, El Centro, CA

Contracting Activity: Department of Homeland Security, Customs and Border Protection, Washington, DC.

Service Type/Location: Custodial Services,

Federal Building, 555 Independence, Cape Girardeau, MO.

NPA: Cape Girardeau Community Sheltered Workshop, Inc., Cape Girardeau, MO

Contracting Activity: GSA, PBS—Region 6, Kansas City, MO.

Service Type/Location: Custodial Services,

Kastenmeir U.S. Courthouse, (120 Henry Street), Madison, WI.

NPA: Madison Area Rehabilitation Centers, Inc., Madison, WI

Contracting Activity: GSA, Public Buildings Service, Region 5, Chicago, IL.

Service Type/Location: Custodial Services,

U.S. DOI—Bureau of Land Mgmt., (Eight Recreation Areas/Campgrounds), Bessemer Bend Rec Site, Golden Eye Rec Site, Government Bridge Site, Lodgepole Campground, MuddyMountain Educational Kiosk, Poison Spider OHV Rec Site, Rim Campground, Trappers Route #1 Rec Site, Casper, WY.

NPA: Northwest Community Action Programs of Wyoming, Inc., Casper, WY

Contracting Activity: U.S. DOI—Bureau of Land Mgmt, Denver, CO.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following product is proposed for deletion from the Procurement List:

Products

Holder, Card Label

NSN: 9905-00-045-3624—Holder, Card Label

NSN: 9905-00-045-3626—Holder, Card Label

NSN: 9905-00-782-3768—Holder, Card Label

NPA: UNKNOWN

Contracting Activity: GSA, Southwest Supply Center, Fort Worth, TX.

Sheryl D. Kennerly,
Director, Information Management.

[FR Doc. E7-328 Filed 1-11-07; 8:45 am]

BILLING CODE 6353-01-P \